SURFACE TRANSPORTATION BOARD

[Docket No. AB 290 (Sub-No. 387X)]

Chesapeake Western Railway—Discontinuance of Service Exemption—in Rockingham and Shenandoah Counties, VA.

AGENCY: Surface Transportation Board.

ACTION: Correction to notice of exemption.

On June 27, 2016, Chesapeake Western Railway (CW) filed a verified notice of exemption under 49 CFR 1152 subpart F—Exempt Abandonments and Discontinuances of Service to discontinue service over an approximately 15.1-mile rail line between milepost CW 84.4 at Mt. Jackson, Va., and milepost CW 99.5 at Broadway, Va., in Rockingham and Shenandoah Counties, Va. (the Line). On July 15, 2016, notice of the exemption was served and published in the Federal Register (81 FR 46,152).

On September 23, 2016, CW filed a letter stating that the starting point of the Line at milepost CW 84.4 was inadvertently incorrect and should have been CW 84.0. As a result, CW states that the total length of the Line is approximately 15.5 miles as opposed to 15.1 miles. This notice corrects the description of the milepost and total length of the Line. All other information in the July 15, 2016 notice is correct.

Board decisions and notices are available on our Web site at “WWW.STB.GOV.”

Decided: January 12, 2017.
By the Board, Rachel D. Campbell, Director, Office of Proceedings.
Rena Laws-Byrum,
Clearance Clerk.

[FR Doc. 2017-01165 Filed 1-18-17; 8:45 am]

BILLING CODE 4915-01-P